DEPARTMENT OF THE TREASURY

Office of Thrift Supervision

San Luis Trust Bank, FSB, San Luis Obispo, CA; Notice of Appointment of Receiver

Notice is hereby given that, pursuant to the authority contained in section 5(d)(2) of the Home Owners' Loan Act, the Office of Thrift Supervision has duly appointed the Federal Deposit Insurance Corporation as sole Receiver for San Luis Trust Bank, FSB, San Luis Obispo, California, (OTS No. 15051) on February 18, 2011.

Dated: February 22, 2011.
By the Office of Thrift Supervision.
Sandra E. Evans,
Federal Register Liaison.

[FR Doc. 2011-4306 Filed 2-25-11; 8:45 am]

BILLING CODE 6720-01-M